SECURITIES AND EXCHANGE COMMISSION

[SEC File No. 270-668, OMB Control No. 3235-0751]

Proposed Collection; Comment Request; Extension: Rule 18a-6

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in Rule 18a-6 (17 CFR 240.18a-6), under the Securities Exchange Act of 1934 (15 U.S.C. 78a et seq.). The Commission plans to submit this existing collection of information to the Office of Management and Budget (“OMB”) for extension and approval.

Rule 18a-6, which is modeled on Rule 17a-4, establishes record maintenance and preservation requirements for stand-alone and bank security-based swap dealers (“SBSDs”) and major security-based swap participants (“MSBSPs”) (collectively, “SBS entities”). Specifically, Rule 18a-6 prescribes the period of time the records required to be made and kept current under Rule 18a-5 must be preserved by stand-alone SBSDs and MSBSPs and the manner in which the records must be preserved. Rule 18a-6 also identifies additional types of records that must be preserved (e.g., written communications and agreements relating to the firm's business) if the record is made or received by the SBS entity.

The Commission estimates that the total hour burden under Rule 18a-6 is approximately 15,626 burden hours per year, and the total cost burden is approximately $1,349,098 per year.

Written comments are invited on: (a) whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by May 20, 2024.

An agency may not conduct or sponsor, and a person is not required to respond to, a collection of information unless it displays a currently valid OMB control number.

Please direct your written comments to: David Bottom, Director/Chief Information Officer, Securities and Exchange Commission, c/o John Pezzullo, 100 F Street NE, Washington, DC 20549, or send an email to: PRA_Mailbox@sec.gov.

Dated: March 14, 2024.
Sherry R. Haywood,
Assistant Secretary.

[FR Doc. 2024-05765 Filed 3-18-24; 8:45 am]

BILLING CODE 8011-01-P